DEPARTMENT OF DEFENSE

Department of the Air Force

Request for Public Review and Comment of Changes to the Navstar GPS Space Segment/Navigation User Segment Interface Control Document (ICD)

AGENCY: Department of the Air Force, DoD.

ACTION: Notice and Request for Review/Comment of Changes to ICD-GPS-200C

SUMMARY: This notice informs the public that the Global Positioning System (GPS) Joint Program Office (JPO) proposes to revise ICD-GPS-200, Navstar GPS Space Segment / Navigation User Interfaces to update the Letters of Exception (LOEs) currently included in the ICD. These proposed changes are described in a Proposed Interface Revision Notice (PIRN): PIRN-200C-008 Revision A. This revision is an updated version of previously distributed PIRN-200C-008. The latest PIRN can be viewed and downloaded at the following web site: http://gps.losangeles.af.mil. Select “System Engineering” and then “Public Interface Control Working Group”. Hyperlinks are provided to “PIRN-200C-008A (PDF)” and to review instructions. Reviewers should save the PIRN to a local memory location prior to opening and performing the review.

ADDRESSES: Submit comments to SMC/GPERC, 2420 Vela Way, Suite 1467, El Segundo, CA 90245-4659. A comment matrix is provided for your convenience at the web site and is the preferred method of comment submittal. Comments may be submitted to the following Internet address: smc.czerc@losangeles.af.mil. Comments may also be sent by fax to 1-310-363-6387.

DATES: The suspense date for comment submittal is July 30, 2004.

FOR FURTHER INFORMATION CONTACT: GPERC at 1-310-363-6329, GPS JPO System Engineering Division, or write to the address above.

SUPPLEMENTARY INFORMATION: The civilian and military communities use the Global Positioning System, which employs a constellation of 24 satellites to provide continuously transmitted signals to enable appropriately configured GPS user equipment to produce accurate position, navigation, and time information.

Pamela D. Fitzgerald,
Air Force Federal Register Liaison Officer.

[FR Doc. 04-16341 Filed 7-16-04; 8:45 am]

BILLING CODE 5001-05-P